DEPARTMENT OF TRANSPORTATION

Federal Aviation Administration

Data-Link Recorder Systems

AGENCY: Federal Aviation Administration (FAA), DOT.

ACTION: Notice of availability and request for public comment.

SUMMARY: This notice announces the availability of, and requests comment on proposed Technical Standard Order (TSO) C-177, Data-Link Recorder Systems. This proposed TSO tells persons seeking a TSO authorization or letter of design approval what minimum performance standards (MPS) their Data-Link Recorder Systems must meet to be identified with the appropriate TSO marking.

DATES: Comments must be received on or before December 28, 2005.

ADDRESSES: Send all comments on this proposed TSO to: Federal Aviation Administration (FAA), Aircraft Certification Service, Aircraft Engineering Division, Avionics Systems Branch (AIR-130), 800 Independence Avenue SW., Washington, DC 20591. ATTN: Ms. Dara Gibson. Or, you may deliver comments to: Federal Aviation Administration, Room 815, 800 Independence Avenue SW., Washington, DC 20591.

FOR FURTHER INFORMATION CONTACT: Ms. Dara Gibson, AIR-130, Room 815, Federal Aviation Administration, 800 Independence Avenue SW., Washington, DC 20591. Telephone (202) 385-4632, fax (202) 385-4651.

SUPPLEMENTARY INFORMATION:

Comments Invited

You are invited to comment on the proposed TSO by submitting written data, views, or arguments to the above address. Comments received may be examined, both before and after the closing data, in room 815 at the above address, weekdays except Federal holidays, between 8:30 a.m. and 4:30 p.m. The Director, Aircraft Certification Service, will consider all comments received on or before the closing date before issuing the final TSO.

Background

Digital messaging technology created a need for a data-link recorder system that would ensure the information and data necessary for the investigation of incidents and accidents continues to be recorded on-board the aircraft. It is important that these digital messages are properly recorded and that the timing correlation between cockpit displays and other aircraft systems are preserved. This proposed TSO prescribes the minimum performance standards for data-link recorder systems equipment necessary to receive, process, record, preserve, and retrieve Communication, Navigation, Surveillance/Air Traffic Management (CNS/ATM) digital messages transmitted to and from the aircraft to assist in investigation an incident or accident.

How to Obtain Copies

You can view or download the proposed TSO from its online location at: http://www.airweb.faa.gov/rgl. At this Web page, select “Technical Standard Orders.” At the TSO page, select “Proposed TSOs.” For a paper copy, contact the person listed in FOR FURTHER INFORMATION CONTACT Note, SAE International documents are copyrighted and may not be reproduced without the written consent of SAE International. You may purchase copies of SAE International documents from: SAE International, 400 Commonwealth Drive, Warrendale, PA, 15096-0001, or directly from their Web site: http://www.sae.org/.

Issued in Washington, DC, on November 17, 2005.
Susan J. M. Cabler,
Assistant Manager, Aircraft Engineering Division, Aircraft Certification Service.

[FR Doc. 05-23304 Filed 11-25-05; 8:45 am]

BILLING CODE 4910-13-M